DEPARTMENT OF ENERGY

Federal Energy Regulatory Commission

[Docket No. EL00-95-000 and EL00-98-000]

San Diego Gas & Electric Company, Complainant, v. Sellers of Energy and Ancillary Services Into Markets Operated by the California Independent System Operator and the California Power Exchange, Respondents. Investigation of Practices of the California Independent System Operator and the California Power Exchange; Notice Granting Motion to Defer Filing of Comments

October 3, 2005.

1. On August 25, 2005, pursuant to the Order on Cost Recovery, Revising Procedural Schedule for Refunds, and Establishing Technical Conference,¹ Federal Energy Regulatory Commission (Commission) staff convened a technical conference to finalize the format of the uniform template for cost filings. Filing dates for responsive pleadings were established at the technical conference, with initial comments on cost filings being due on October 11, 2005, and reply comments being due October 17, 2005.² On September 22, 2005, California Parties ³ filed a motion asking the Commission to allow them to defer filing their comments on the cost filing submitted by Enron Power Marketing, Inc., Enron Energy Services, Inc., and Enron North America Corp. (collectively, Enron). California Parties state that on August 24, 2005, they, along with Enron and other parties, filed a Joint Offer of Settlement with the Commission (Enron Settlement). California Parties state that approval of the Enron Settlement would obviate California Parties' need to address Enron's cost filing. California Parties note, however, that the Commission has not acted on the Enron Settlement, and may not rule on it prior to October 11, 2005, the date on which comments on cost filings are due. California Parties request permission to defer their filing of comments on Enron's cost filing until 21 days after any unfavorable ruling on the Enron Settlement, so as to conserve their time and financial resources.⁴ California Parties further assert that, if the Commission were to grant the motion, it would also be appropriate to grant Enron a delayed six day reply comment period, consistent with the six day reply period in the current comment schedule.⁵ In addition, given the impending October 11, 2005 deadline for filing comments on cost filings, California Parties request expedited treatment of their motion.

¹ San Diego Gas & Electric Co. v. Sellers of Energy and Ancillary Services, 112 FERC ¶ 61,176 at Ordering Paragraph (E) (2005) (August 8 Order).

² See Cost Recovery Template, Docket Nos. EL00-95-000 and EL00-98-000 (August 26, 2005).

³ The California Parties are the People of the State of California, ex rel. Bill Lockyer, Attorney General; the California Electricity Oversight Board; the California Public Utilities Commission; Pacific Gas & Electric Company; and Southern California Edison Company.

⁴ California Parties' Motion at 4-5.

⁵ Id. at 5 n.8.

2. On September 28, 2005, Enron filed an answer supporting California Parties' motion. In addition, Enron requested an extension of time to file reply comments until nine days after the expiration of California Parties' proposed revised comment period, if the Enron Settlement were rejected and California Parties were to file comments on Enron's cost filing.⁶

⁶ Enron's Answer at 2.

3. We grant California Parties' motion, and we extend to all signatories to the Enron Settlement permission to defer filing comments and reply comments on Enron's cost filing until specified dates after the Commission rules on the Enron Settlement. California Parties and Enron aim to avoid devoting resources to a task that may prove unnecessary for them, and for all settling parties, if the Commission approves the Enron Settlement. Accordingly, we will allow California Parties and other Enron Settlement signatories to defer filing comments on Enron's cost filing until 21 days after the issuance of any determination on the Enron Settlement. Similarly, we will allow Enron to defer filing a reply to any deferred comments until six days after the expiration date of the revised comment period. While Enron requested nine days to reply to California Parties' comments because “[t]he cost recovery filing is complex, and, if history is any guide, the California Parties' comments will be detailed and voluminous,” it would be inequitable to grant the additional three days.⁷ Under the current schedule, all other parties who made cost filings have six days to reply to California Parties' comments on their cost filings, and Enron offers no justification why California Parties' comments would be more extensive on Enron's cost filing than any other cost filing.

⁷ Id. at 2.

4. Finally, we clarify that this deferral extends only to California Parties, Enron and all other signatories to the Enron Settlement. All remaining parties who intend to file comments on Enron's cost filing must do so according to the October 11, 2005 deadline, or forgo their opportunity to do so. Similarly, Enron must file any response to those comments by October 17, 2005. The Commission is committed to completing the refund proceeding as expeditiously as possible, which includes completing its review of all cost filings, including Enron's, according to the timetable set forth in the August 8 Order.

By direction of the Commission.
Magalie R. Salas,
Secretary.

[FR Doc. E5-5549 Filed 10-7-05; 8:45 am]

BILLING CODE 6717-01-P